DEPARTMENT OF ENERGY

Federal Energy Regulatory Commission

[Docket No. RP01-320-000]

Southern Natural Gas Company; Notice of GSR Refund Filing

April 3, 2001.

Take notice that on March 30, 2001, Southern Natural Gas Company (Southern) tendered for filing a refund report which calculates and allocates among its customers $134,498 of GSR amounts overcollected during 2000.

Southern states that copies of the filing were served upon all parties listed on the official service list complied by the Secretary in these proceedings and interested State Commission.

Any person desiring to be heard or to protest said filing should file a motion to intervene or a protest with the Federal Energy Regulatory Commission, 888 First Street, NE., Washington, DC 20426, in accordance with section 385.214 or 385.211 of the Commission's Rules and Regulations. All such motions or protests must be filed on or before April 10, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call (202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8597 Filed 4-6-01; 8:45 am]

BILLING CODE 6717-01-M